DEPARTMENT OF STATE

[Public Notice 11727]

Determination Pursuant to Section 451 of the Foreign Assistance Act for the Use of Funds To Support South Sudan Peace Agreement Monitoring Mechanisms

Pursuant to section 451 of the Foreign Assistance Act of 1961 (the “Act”) (22 U.S.C. 2261), section 1-100(a)(1) of E.O. 12163 and Delegation of Authority 513, I hereby authorize, notwithstanding any other provision of law, the use of up to $3,000,000 made available to carry out provisions of the Act (other than the provisions of chapter 1 of part I of the Act) to provide assistance authorized by part I of the Act to support countries that participate in the Reconstituted Joint Monitoring and Evaluation Commission and the Ceasefire and Transitional Security Arrangements Monitoring and Verification Mechanism in South Sudan.

This Determination and the accompanying Memorandum of Justification shall be promptly reported to the Congress. This Determination shall be published in the Federal Register.

Dated: February 24, 2022.
Brian P. McKeon,
Deputy Secretary of State for Management and Resources.

[FR Doc. 2022-10150 Filed 5-10-22; 8:45 am]

BILLING CODE 4710-25-P